DEPARTMENT OF ENERGY

Federal Energy Regulatory Commission

[Docket Nos. ER06-615-000, ER07-1257-000, ER08-1113-000, ER08-1178-000, OA08-62-000]

California Independent System Operator Corporation; Notice of FERC Staff Attendance

March 17, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

March 18, 2009 | MRTU Implementation Workshop and BPM Change Management.
March 19, 2009 | IBAA Supplemental Training 2009 Post MRTU Go Live Release Plan.
March 24, 2009 | MRTU Parallel Operations Touchpoint 2010 California ISO Transmission Plan Meeting Methodology for Calculating Projected Proxy Costs.
March 25, 2009 | Congestion Revenue Rights Settlements and Market Clearing User Group.
March 26, 2009 | MRTU Parallel Operations Touchpoint Board of Governors and Committee Meetings.
March 27, 2009 | Board of Governors and Committee Meetings.

Sponsored by the CAISO, the teleconferences and meetings are open to all market participants, and Commission staff's attendance is part of the Commission's ongoing outreach efforts. The teleconferences and meetings may discuss matters at issue in the above captioned dockets.

FOR FURTHER INFORMATION, CONTACT: Saeed Farrokhpay at saeed.farrokhpay@ferc.gov; (916) 294-0322 or Maury Kruth at maury.kruth@ferc.gov, (916) 294-0275.

Kimberly D. Bose,
Secretary.

[FR Doc. E9-6286 Filed 3-23-09; 8:45 am]

BILLING CODE